ENVIRONMENTAL PROTECTION AGENCY

[EPA-HQ-OPPT-2024-0160; FRL-11814-01-OCSPP]

U.S. Government Accountability Office (GAO): Disclosure of Information Potentially Containing Confidential Business Information

AGENCY: Environmental Protection Agency (EPA).

ACTION: Notice.

SUMMARY: The U.S. Environmental Protection Agency (EPA or the Agency) is providing notice of disclosure to all potentially affected businesses under the Toxic Substances Control Act (TSCA) that have submitted information to EPA pursuant to TSCA section 5. In response to a request by the U.S. Government Accountability Office (GAO), EPA will disclose information to GAO which has been submitted to the Agency under TSCA section 5, and which is claimed to be, or has been determined to be, Confidential Business Information (CBI). The information to be disclosed includes portions of at least several TSCA section 5 submissions, which may include information that is claimed as, or has been determined to be, CBI.

DATES: EPA will disclose the material discussed in this document to GAO, including any CBI therein, no earlier than April 12, 2024. At the conclusion of GAO's review, all CBI-claimed documents will be destroyed, deleted, or returned to EPA if applicable.

FOR FURTHER INFORMATION CONTACT: Jessica Barkas, Program Management and Operations Division (PMOD) 7407M, Office of Pollution Prevention and Toxics, Environmental Protection Agency, 1200 Pennsylvania Ave. NW, Washington, DC 20460; telephone number: (202) 250-8880; email address: barkas.jessica@epa.gov.

SUPPLEMENTARY INFORMATION: In connection with a GAO review, EPA received a request under 40 CFR 2.209(b) from GAO for certain records submitted to EPA under TSCA from October 1, 2021, through the date of this notice. According to the request, GAO is initiating a review of EPA's practices for managing and accessing the performance of EPA's New Chemicals Review program under TSCA section 5. To fulfill these objectives, GAO has requested access to records, data, and documents submitted to EPA pursuant to TSCA, 15 U.S.C. 2601 et seq., the Pollution Prevention Act (PPA), 42 U.S.C. 13101 et seq., and other applicable statutes administered by EPA's Office of Pollution Prevention and Toxics (OPPT) from October 1, 2021, through the date of this notice. The requested information may include submissions that have been claimed as, or have been determined to be, CBI. GAO has not indicated which or how many TSCA section 5 submissions they may need to access, but their planned review of this information will likely require the viewing and analysis of some features of unredacted submissions that have been claimed as CBI. Consequently, GAO staff may view CBI material in TSCA section 5 submissions incidental to their review and examination of EPA's New Chemical Review program. EPA also intends to disclose to GAO any information related to data systems that house new chemicals review information to assess the reliability of system data.

To fulfill the request, EPA expects to provide GAO temporary access to the requested TSCA section 5 submissions via remote access to EPA's TSCA CBI LAN beginning as early as 10 days following this notice. At this point, EPA does not anticipate transferring physical custody of any requested information or documents to GAO.

The disclosure of CBI is limited to GAO and further disclosure is generally restricted by 31 U.S.C. 716(e) and subject to criminal penalties under 18 U.S.C. 1905. At the conclusion of the GAO review, all CBI-claimed documents will be destroyed, deleted, or returned to EPA, if applicable.

Authority: 15 U.S.C. 2601 et seq.

Dated: March 27, 2024.
Pamela Myrick,
Director, Project Management and Operations Division, Office of Pollution Prevention and Toxics.

[FR Doc. 2024-06926 Filed 4-1-24; 8:45 am]

BILLING CODE 6560-50-P